OFFICE OF SCIENCE AND TECHNOLOGY POLICY

NATIONAL ECONOMIC COUNCIL

Extension of Comment Period for Commercialization of University Research Request for Information

ACTION: Notice; extension of comment period.

The comment period for the joint request for information issued by the Office of Science and Technology Policy and the National Economic Council, originally published in the Federal Register on March 25, 2010 (75 FR 14476), is extended for an additional 30 days. The comment period will now officially close on May 26, 2010 at 11:59 p.m. EST. Please follow the original instructions. Contact nec_general@who.eop.gov with any questions.

Thomas Kalil,
Deputy Director for Policy, Office of Science and Technology.
Diana Farrell,
Deputy Assistant to the President for Economic Policy, National Economic Council.

[FR Doc. 2010-9560 Filed 4-23-10; 8:45 am]

BILLING CODE 3170-W0-P